DEPARTMENT OF AGRICULTURE

Animal and Plant Health Inspection Service

9 CFR Parts 93, 94, 95, and 96

[Docket No. APHIS-2006-0041]

RIN 0579-AC01

Bovine Spongiform Encephalopathy; Minimal-Risk Regions; Importation of Live Bovines and Products Derived from Bovines

Correction

In rule document 07-4595 beginning on page 53314 in the issue of Tuesday, September 18, 2007, make the following correction:

On page 53332, in the third column, in the first paragraph, in the fifthteenth line, “RO” should read “ R0”.

[FR Doc. C7-4595 Filed 10-12-07; 8:45 am]

BILLING CODE 1505-01-D

DEPARTMENT OF THE TREASURY

Internal Revenue Service

26 CFR Parts 1 and 602

[TD 9353]

RIN 1545-BC67

Section 1045 Application to Partnerships

Correction

In rule document E7-15948 beginning on page 45346 in the issue of Tuesday, August 14, 2007, make the following correction:

On page 45347, in the first column, in the last line of the first paragraph, “§ 601.601(d)(2)(ii)(b)” should read “§ 601.601(d)(2)(ii)(b)”.

[FR Doc. Z7-15948 Filed 10-12-07; 8:45 am]

BILLING CODE 1505-01-D